DEPARTMENT OF TRANSPORTATION

Coast Guard

33 CFR Part 117

[CGD13-99-008]

RIN 2115 AE47

Drawbridge Operations Regulations; Willamette River, OR

AGENCY: Coast Guard, DOT.

ACTION: Final rule.

SUMMARY: The Coast Guard is changing the operating regulations for all the Multnomah County drawbridges and the Union Pacific drawbridge across the Willamette River at Portland, Oregon. The draws will open on signal except from 7 a.m. to 9 a.m. and from 4 p.m. to 6 p.m. Monday through Friday, except for certain holidays. This rule adds a requirement for one-hour or two-hour notices for lifts of the upper deck of the Steel Bridge at certain times each day, consistent with the notice requirements for the Burnside and Morrison Bridges immediately upstream. The hours for the one hour notice requirement are changed to accord with the new hours for the above closed periods.

DATES: This final rule is effective on February 17, 2000.

ADDRESSES: Comments and material received from the public, as well as documents as indicated in this preamble as being available in the docket, are part of docket CGD13-99-008 and are available for inspection or photocopying at the office of the Commander (oan), Thirteenth Coast Guard District, 915 Second Avenue, Seattle, Washington 98174-1067 between 7:45 a.m. and 4:15 p.m., Monday through Friday, except Federal holidays.

FOR FURTHER INFORMATION CONTACT: John E. Mikesell, Chief,Plans and Programs Section, Aids to Navigation and Waterways Management Branch, Telephone (206) 220-7272.

SUPPLEMENTARY INFORMATION:

Regulatory Information

On May 25, 1999, we published a notice of proposed rulemaking entitled Drawbridge Operation Regulations; Willamette River, Oregon, in the Federal Register {64 FR 28125}. We received one letter commenting on the proposed rule. No public hearing was requested and none was held.

Background

The purpose of this rulemaking is to extend by one half-hour the daily Monday through Friday periods during which the draws need not open for the passage of vessels. By moderately changing the closed periods Monday through Friday by one hour per day, the Coast Guard intends to assist traffic flow in the city of Portland without unreasonably hindering navigation on the Willamette River. These closed periods for the drawspans will coincide better with the actual periods of peak road traffic.

The Willamette River bears commercial navigation including tour boats, tug and tows, derrick barges, as well as recreational craft. No one has objected to the proposed rule. The changes are not great enough to have a significant impact on waterway use.

Discussion of Comments and Changes

The Coast Guard received one letter in response to the notice of proposed rulemaking. The Oregon Department of Transportation (ODOT), operator of the upper deck of the Steel Bridge, requested the Coast Guard to apply the advance notice for opening requirements that are in effect for the Morrison and Burnside Bridges to the upper deck of the Steel Bridge.

The notice requirement for the upper deck of the Steel Bridge was not published in the notice of proposed rulemaking. However, the notice requirement for the upper deck of the Steel Bridge would be consistent with the notice requirements for the Burnside and Morrison Bridges of Multnomah County, which are nearby, upstream of the Steel Bridge. In order to uphold consistency within 33 CFR 117.897, the notice requirement for the upper deck of the Steel Bridge is added in this final rule. This minor aspect of the final rule will not unreasonably hinder navigation. Almost all vessels that would require the upper deck of the Steel Bridge to lift would also need the draws of the Morrison and Burnside to open for their passage as well. This notice requirement is not applied to the lower deck because it is usually in the raised position except for the passage of trains.

In addition, the hours for the one hour notice are changed to coincide in a reasonable way with the new times for the closed periods. This was not mentioned in the proposed rule but will have no significant effect on navigation. The hours for one hour notice were 8 a.m. to 4:30 p.m. and are now 8 a.m. to 5 p.m.

The Steel Bridge, owned by the Union Pacific Railroad, is an unusual vertical lift structure. The bridge, including the drawspan, has two decks, one over the other. The lower deck bears rail traffic while the upper deck supports light commuter rail and automotive traffic. The upper deck is operated by ODOT. Many vessels are able to pass the Steel Bridge when only the lower deck is lifted. This is done by telescoping its steel uprights into the vertical elements of the upper truss. Lifts of the upper deck with lower deck telescoped are needed far less often than those of the lower deck. The lower deck, when down, provides only about 26 feet of vertical clearance at ordinary low water level. At the same river level, 72 feet is provided with the lower deck lifted and 161 feet with both decks fully raised.

Regulatory Evaluation

This final rule is not a “significant regulatory action” under 3(f) of Executive Order 12866 and does not require an assessment of potential costs and benefits under section 6(a)(3) of that Order. The Office of Management and Budget has not reviewed it under that Order. It is not “significant” under the regulatory policies and procedures of the Department of Transportation (DOT) (44 FR 11040,February 26, 1979). The Coast Guard expects the economic impact of this rule to be so minimal that a full regulatory evaluation under paragraph 10(e) of the regulatory policies and procedures of DOT is unnecessary. The final rule should improve commuter traffic flow by minimally increasing the times when commercial navigation cannot pass through the open draw spans.

Small Entities

Under the Regulatory Flexibility Act (5 U.S.C. 601-612), we considered whether this final rule, would have a significant economic impact on a substantial number of small entities. “Small entities” include small businesses, not-for-profit organizations that are independently owned and operated and are not dominant in their fields, and governmental jurisdictions with populations less than 50,000. This rule will effect the following entities, some of which may be small entities: the owners or operators of vessels intending to transit through the portion of the Willamette over which the subject bridges pass. The changes to the regulations are minimal. The effects may be mitigated by planning passages of the Willamette according to the operating schedule of the drawbridges. Furthermore, many of the small entities would not require these bridges to open for their passage. The Coast Guard certifies under 5 U.S.C. 605(b) that this rule will not have a significant impact on a substantial number of small entities.

Collection of Information

This final rule calls for no new collection of information under the Paperwork Reduction Act of 1995 (44 U.S.C. 3501-3520).

Federalism

We have analyzed this final rule in accordance with the principles and criteria contained in Executive Order 13132, and have determined that this final rule does not have implications for federalism under that Order.

Unfunded Mandates Reform Act

The Unfunded Mandates Reform Act of 1995 (2 U.S.C. 1531-1538) governs the issuance of federal regulations that require unfunded mandates. An unfunded mandate is a regulation that requires a State, local, or tribal government or the private sector to incur direct costs without the federal government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this rule and concluded that, under Section 2.B.2., Figure 2-1, paragraph 32(e) of Commandant Instruction M16475.1C, this rule is categorically excluded from further environmental documentation because promulgation of changes to drawbridge regulations have been found not to have a significant effect on the environment. A written “Categorical Exclusion Determination” is not required.

List of Subjects in 33 CFR Part 117

Bridges.

For the reasons set out in the preamble, the Coast Guard amends 33 CFR part 117, as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Revise § 117.897(a)(1), introductory text, to read as follows:

§ 117.897 Willamette River.

(a) * * *

(1) The draws shall open on signal except that from 7 a.m. to 9 a.m. and 4 p.m. to 6 p.m. Monday through Friday the draws of the Broadway, Steel (upper deck only), Burnside, Morrison, and Hawthorne Bridges need not open for the passage of vessels. These closed periods are not effective on New Year's Day, Memorial Day, Fourth of July, Labor Day, Thanksgiving Day, and Christmas Day. At least one hour's notice shall be given for openings of the Steel Bridge (upper deck only), Burnside Bridge and Morrison Bridge, Monday through Friday, from 8 a.m. to 5 p.m. At all other times at least two hours notice shall be given. Notice shall be given by marine radio, telephone, or other means to the drawtender at the Broadway Bridge for vessels bound upstream and to the drawtender at the Hawthorne Bridge for vessels bound downstream. During Rose Festival Week or when the water elevation reaches and remains above +12 feet, the draws will open on signal without advance notice, except during the normal closed periods identified in this paragraph (a)(1). Opening signals are as follows:

* * * * *

Dated: December 21, 1999.
Paul M. Blayney,
Rear Admiral, Coast Guard, Commander, Thirteenth Coast Guard District.

[FR Doc. 00-1030 Filed 1-14-00; 8:45 am]

BILLING CODE 4910-15-U